NATIONAL AERONAUTICS AND SPACE ADMINISTRATION

[Notice (10-106)]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: September 8, 2010.

FOR FURTHER INFORMATION CONTACT: James J. McGroary, Patent Counsel, Marshall Space Flight Center, Mail Code LS01, Huntsville, AL 35812; telephone (256) 544-0013; fax (256) 544-0258.

NASA Case No. MFS-32715-1: Method of Promoting Single Crystal Growth During Melt Growth of Semiconductors;

NASA Case No. MFS-32642-1: Liquid Level Sensing System;

NASA Case No. MFS-32638-1: Force Sensor Using Changes in Magnetic Flux;

NASA Case No. MFS-32614-1: Magnetostrictive Pressure Regulating System.

Dated: September 1, 2010.
Richard W. Sherman,
Deputy General Counsel.

[FR Doc. 2010-22388 Filed 9-7-10; 8:45 am]

BILLING CODE 7510-13-P